DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Protection and Advocacy for Individuals With Mental Illness (PAIMI) Annual Program Performance Report (OMB No. 0930-0169, Revision)

The Protection and Advocacy for Individuals with Mental Illness (PAIMI) Act (42 U.S.C. 10801 et seq.) authorized funds to support protection and advocacy services on behalf of individuals with significant (severe) mental illnesses (adults) and significant (severe) emotional impairments (children) who are at risk for abuse (including incidents of seclusion, restraint and fatalities related to such incidents), neglect, and other civil rights violations while residing in a public or private care or treatment facility. This program is managed by SAMHSA's Center for Mental Health Services (CMHS).

Under the PAIMI Act, formula grant awards are made to governor-designated protection and advocacy (P&A) systems in the 50 States, 7 territories, and the District of Columbia (Mayor) to ensure that the rights of individuals with significant mental illnesses and significant emotional impairments are not violated. Whenever the annual PAIMI appropriation reaches $30 million or more, State P&A systems may serve PAIMI-eligible individuals, as defined under the Act [42 U.S.C. at 10802(4)], residing in the community, including their own homes. However, persons residing in public and private residential care or treatment facilities have priority for all State P&A system PAIMI Program services [42 U.S.C. at 10804(d)].

The PAIMI Act requires State P&A systems to file an annual report on their activities and accomplishments and to provide information on such topics as: numbers of individuals served, types of complaints addressed, and the number of intervention strategies used to resolve the presenting issues, and actual expenditures. Under the Act, there is an Advisory Council which is also required to submit an annual report that assesses the effectiveness of the services provided to, and the activities conducted by, the P&A systems on behalf of PAIMI eligible individuals and their family members. In this submission, CMHS is reinstating information on fiscal year actual budget expenditures and making primarily minor changes to the annual reports. Also, CMHS will consult with the Center for Medicaid and Medicaid Services on mutual issues related to the use of seclusion and restraint in residential care and treatment facilities. The revised report formats will be effective for the PAIMI report due on January 1, 2005. The annual burden estimate is as follows:

| No. of respondents | No. of responses per respondent | Hours per response | Total hour burden
Annual Program Performance Report | 57 | 1 | 28 | 1,596
Activities & Accomplishments |  |  | (20) | (1,140)
Performance outcomes |  |  | (3) | (171)
Expenses |  |  | (2) | (114)
Budget |  |  | (2) | (114)
Priority statements & objectives |  |  | (1) | (57)
Advisory Council Report | 57 | 1 | 10 | 570
Total | 114 |  |  | 2,166

Send comments to Nancy Pearce, SAMHSA Reports Clearance Officer, Room 16-105, Parklawn Building, 5600 Fishers Lane, Rockville, MD 20857. Written comments should be received within 60 days of this notice.

Dated: August 20, 2003.
Anna Marsh,
Acting Executive Officer, SAMHSA.

[FR Doc. 03-21865 Filed 8-26-03; 8:45 am]

BILLING CODE 4162-20-P